DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska American Fisheries Act (AFA) Permits.

OMB Control Number: 0648-0393.

Form Number(s): None.

Type of Request: Regular (extension of a currently approved information collection).

Number of Respondents: 27.

Average Hours per Response: 1 hour each for AFA Permit: Rebuilt, Replacement, or Removed Vessel Application and Application for Transfer of Bering Sea Chinook Salmon PSC Allocations; 2 hours for Application for AFA Inshore Catcher Vessel Cooperative Permit; 4 hours for AFA Inshore Vessel Contract Fishing Notification; 8 hours for Application for Approval as an Entity to Receive Transferable Chinook Salmon PSC Allocation.

Burden Hours: 251 hours.

Needs and Uses: The American Fisheries Act (AFA) was signed into law in October 1998. The purpose of the AFA was to tighten U.S. ownership standards that had been exploited under the Anti-reflagging Act, and to provide the Bering Sea and Aleutian Islands (BSAI) pollock fleet the opportunity to conduct their fishery in a more rational manner while protecting non-AFA participants in the other fisheries. The AFA established sector allocations in the BSAI pollock fishery, determined eligible vessels and processors, allowed the formation of cooperatives, set limits on the participation of AFA vessels in other fisheries, and imposed special catch weighing and monitoring requirements on AFA vessels.

This information collection contains five AFA permitting and reporting requirements.

• The AFA Permit: Rebuilt, Replacement, or Removed Vessel Application is submitted by an owner of an AFA vessel to notify NMFS the vessel has been rebuilt; to request an AFA permit for a replacement catcher vessel, catcher/processor, or mothership; or to request removal of an AFA catcher vessel that is a member of an inshore cooperative and assign its catch history to another vessel or vessels in the same cooperative.

• The Application for AFA Inshore Catcher Vessel Cooperative Permit is submitted annually by each AFA inshore catcher vessel cooperative to obtain an AFA Inshore Catcher Vessel Cooperative Permit and identify the vessels and processors that will be participating in the BSAI pollock fishery prior to the start of each fishing year.

• The AFA Inshore Vessel Contract Fishing Notification is submitted by an AFA inshore cooperative that intends to contract with a non-member vessel to harvest a portion of the cooperative's annual pollock allocation to notify NMFS of vessels that might be reporting with an alternative cooperative ID.

• The Application for Approval as an Entity to Receive Transferable Chinook Salmon PSC Allocation is submitted by an entity representing the catcher/processor sector or the mothership sector to request approval to receive transferable Chinook salmon PSC allocations on behalf of members of the sector. This application is also used to update contact and other information related to the entity and its members.

• The Application for Transfer of Bering Sea Chinook Salmon PSC Allocations is submitted by an authorized representative of the catcher/processor sector, the mothership sector, an inshore cooperative, or a CDQ group to transfer Chinook salmon PSC allocations to another entity's account.

Affected Public: Businesses or other for-profit organizations; Individuals or households, Not-for-profit institutions.

Frequency: On occasion, Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00297 Filed 1-10-20; 8:45 am]

BILLING CODE 3510-22-P